DEPARTMENT OF ENERGY

Federal Energy Regulatory Commission

18 CFR Part 385

[Docket No. RM07-16-000]

Filing Via the Internet

August 1, 2007.

AGENCY: Federal Energy Regulatory Commission.

ACTION: Notice of Technical Conference.

SUMMARY: The Federal Energy Regulatory Commission is hosting a technical conference to discuss the proposed changes to electronic filing and electronic file and document format instructions that are associated with the Commission's Notice of Proposed Rulemaking issued July 27, 2007. 72 FR 42330 (August 2, 2007). The conference will be held from 9 a.m. to 4 p.m. in the offices of the Commission.

DATES: Conference will be held on August 22, 2007.

FOR FURTHER INFORMATION CONTACT: Wilbur Miller, 888 First Street, NE., Washington, DC 20426, Telephone: (202) 502-8953, E-mail: wtmiller@ferc.gov.

SUPPLEMENTARY INFORMATION:

Notice of Technical Conference

August 1, 2007.

Take notice that on August 22, 2007, Federal Energy Regulatory Commission (Commission) staff will host a technical conference to discuss the proposed changes to electronic filing and electronic file and document format instructions that are associated with the Notice of Proposed Rulemaking (NOPR) on expanding electronic filing, RM07-16-000, that FERC issued on July 27, 2007. Filing Via the Internet, 120 FERC ¶ 61,081 (2007). The technical conference will be held from 9 a.m. until 4 p.m. (EDT) in a room to be designated at the offices of the Commission, 888 First Street, NE., Washington, DC 20426.

The conference will be conducted in two sessions. Session 1 will present an overview of the electronic filing submission instructions that will apply universally. Session 2 will be divided into sections that will discuss information that is specific to each industry. The draft electronic filings and electronic file and document format instructions are available through the calendar of events for this technical conference on http://www.ferc.gov.

The conference is open to the public and does not require pre-registration. FERC conferences are accessible under section 508 of the Rehabilitation Act of 1973. For accessibility accommodations please send an e-mail to accessibility@ferc.gov or call toll free 1-866-208-3372 (voice) or 202-208-1659 (TTY), or send a FAX to 202-208-2106 with the required accommodations.

Arrangements will be made for participation in the technical conference via telephone. For more information about this conference and to make telephone conference call arrangements, please contact Wilbur Miller, Office of General Counsel at (202) 502-8953 or Wilbur.Miller@ferc.gov.

Kimberly D. Bose,
Secretary.

[FR Doc. E7-15409 Filed 8-7-07; 8:45 am]

BILLING CODE 6717-01-P